DEPARTMENT OF LABOR

Employment and Training Administration

[TA-W-42,350]

Partex Apparel Manufacturing, Inc., Medley, FL; Notice of Termination of Investigation

Pursuant to section 221 of the Trade Act of 1974, as amended, an investigation was initiated on November 1, 2002 in response to a worker petition filed by a company official on behalf of workers at Partex Apparel Manufacturing, Inc., Medley, Florida.

The petitioner has requested that this petition be withdrawn. Consequently, further investigation would serve no purpose and the investigation has been terminated.

Signed at Washington, DC this 11th day of February 2003.
Linda G. Poole,
Certifying Officer, Division of Trade Adjustment Assistance.

[FR Doc. 03-5552 Filed 3-7-03; 8:45 am]

BILLING CODE 4510-30-P